DEPARTMENT OF HOUSING AND URBAN DEVELOPMENT

[Docket No. FR-5285-N-19]

Notice of Proposed Information Collection: Comment Request; Multifamily Housing Mortgage and Housing Assistance Restructuring Program (Mark to Market)

AGENCY: Office of Affordable Housing Preservation, HUD.

ACTION: Notice.

SUMMARY: The proposed information collection requirement described below will be submitted to the Office of Management and Budget (OMB) for review, as required by the Paperwork Reduction Act. The Department is soliciting public comments on the subject proposal.

DATES: Comments Due Date: August 3, 2009.

ADDRESSES: Interested persons are invited to submit comments regarding this proposal. Comments should refer to the proposal by name and/or OMB Control Number and should be sent to: Lillian Deitzer, Departmental Reports Management Officer, QDAM, Department of Housing and Urban Development, 451 7th Street, SW., Washington, DC 20410; e-mail Lillian_L._Deitzer@hud.gov or telephone (202) 402-8048.

FOR FURTHER INFORMATION CONTACT: Theodore K. Toon, Deputy Assistant Secretary, Office of Affordable Housing Preservation, 451 7th Street, SW., Suite 6230, Washington DC 20410; e-mail Theodore_K._Toon@hud.gov; telephone (202) 708-0001 (this is not a toll-free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses. This Notice also lists the following information:

Title of Proposal: Multifamily Housing Mortgage and Housing Assistance Restructuring Program (Mark to Market).

OMB Control Number, if applicable: 2502-0533.

Description of the need for the information and proposed use: The Mark to Market Program is authorized under the Multifamily Assisted Housing Reform and Affordability Act of 1997 as extended by the Market to Market Extension Act of 2001. The information collection is required and will be used to determine the eligibility of FHA-insured multifamily properties for participation in the Mark to Market program and the terms on which such participation should occur as well as to process eligible properties from acceptance into the program through closing of the mortgage restructure in accordance with program guidelines. The result of participation in the program is the refinancing and restructure of the property's FHA-insured mortgage and, generally the reduction of Section 8 rent payments and establishment of adequately funded accounts to fund required repair and rehabilitation of the property.

Agency form numbers, if applicable: HUD-9624, HUD-9625, OPG 2.1, OPG 2.2, OPG 2.7, OPG 2.9, OPG 2.15, OPG 2.16, OPG 2.17, OPG 3.1, OPG 3.2, OPG 3.3, OPG 3.4, OPG 3.5, OPG 3.7, OPG 3.8, OPG 4.1, OPG 4.2, OPG 4.3, OPG 4.4, OPG 4.5, OPG 4.6, OPG 4.7, OPG 4.8, OPG 4.10, OPG 4.11, OPG 4.12, OPG 5.1, OPG 5.4, OPG 5.5, OPG 6.2, OPG 6.5, OPG 6.8, OPG 6.9, OPG 7.1, OPG 7.2, OPG 7.3, OPG 7.3TPA, OPG 7.5, OPG 7.6, OPG 7.7, OPG 7.8, OPG 7.9, OPG 7.11, OPG 7.12, OPG 7.13, OPG 7.14, OPG 7.16, OPG 7.21, OPG 7.22, OPG 7.23, OPG 7.24, OPG 7.25, OPG 8.1, OPG 9.10, OPG 9.11, OPG 10.2, OPG 10.4a, OPG 10.4b, OPG 10.6a, OPG 10.8, OPG Appendix M Attachment 1, OPG Appendix M Attachment 2, OPG 11.1,

Estimation of the total numbers of hours needed to prepare the information collection including number of respondents, frequency of response, and hours of response: The number of annual burden hours is 663, the number of responses is 694, the frequency of response is on occasion, and the burden hour per response on average is 1.

Status of the proposed information collection: Extension of a currently approved collection.

Authority: The Paperwork Reduction Act of 1995, 44 U.S.C., Chapter 35, as amended.

Dated: May 26, 2009.
Ronald Y. Spraker,
Acting General Deputy Assistant Secretary for Housing—Deputy Federal Housing Commissioner.

[FR Doc. E9-12806 Filed 6-1-09; 8:45 am]

BILLING CODE 4210-67-P